ENVIRONMENTAL PROTECTION AGENCY

40 CFR Part 52

[EPA-R04-OAR-2014-0915; FRL-9928-88-Region 4]

Approval and Promulgation of Implementation Plans; South Carolina; Charlotte-Rock Hill; Base Year Emissions Inventory and Emissions Statements Requirements for the 2008 8-Hour Ozone Standard

AGENCY: Environmental Protection Agency.

ACTION: Direct final rule.

SUMMARY: The Environmental Protection Agency (EPA) is taking direct final action to approve the portions of the state implementation plan (SIP) revisions submitted by the State of South Carolina, through South Carolina Department of Health and Environmental Control (SC DHEC) on August 8, 2014, and August 22, 2014, that address the base year emissions inventory and emissions statements requirements for the State's portion of the bi-state Charlotte-Gastonia-Rock Hill North Carolina-South Carolina 2008 8-hour ozone national ambient air quality standards (NAAQS) nonattainment area (hereinafter referred to as the “bi-state Charlotte Area” or “Area”). Annual emissions reporting (i.e., emissions statements) and a base year emissions inventory are required for all ozone nonattainment areas. The Area is comprised of the entire county of Mecklenburg and portions of Cabarrus, Gaston, Lincoln, Rowan, and Union Counties in North Carolina and a portion of York County in South Carolina. EPA has published proposed and direct final actions on the emissions inventory and emissions statements requirements for the North Carolina portion of the bi-state Charlotte Area in separate rulemaking documents.

DATES: This direct final rule is effective August 11, 2015 without further notice, unless EPA receives adverse comment by July 13, 2015. If EPA receives such comments, it will publish a timely withdrawal of the direct final rule in the Federal Register and inform the public that the rule will not take effect.

ADDRESSES: Submit your comments, identified by Docket ID No. EPA-R04-OAR-2014-0915, by one of the following methods:

1. www.regulations.gov: Follow the on-line instructions for submitting comments.

2. Email: R4-ARMS@epa.gov.

3. Fax: (404) 562-9019.

4. Mail: “EPA-R04-OAR-2014-0915,” Air Regulatory Management Section, Air Planning and Implementation Branch, Air, Pesticides and Toxics Management Division, U.S. Environmental Protection Agency, Region 4, 61 Forsyth Street SW., Atlanta, Georgia 30303-8960.

5. Hand Delivery or Courier: Lynorae Benjamin, Chief, Air Regulatory Management Section, Air Planning and Implementation Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Instructions: Direct your comments to Docket ID No. EPA-R04-OAR-2014-0915. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Air Regulatory Management Section, Air Planning and Implementation Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Tiereny Bell, Air Regulatory Management Section, Air Planning and Implementation Branch, Air, Pesticides and Toxics Management Division, U.S. Environmental Protection Agency, Region 4, 61 Forsyth Street SW., Atlanta, Georgia 30303-8960. Ms. Bell can be reached at (404) 562-9088 and via electronic mail at bell.tiereny@epa.gov.

SUPPLEMENTARY INFORMATION:

I. Background

On March 12, 2008, EPA promulgated a revised 8-hour ozone NAAQS of 0.075 parts per million (ppm). See 73 FR 16436 (March 27, 2008). Under EPA's regulations at 40 CFR part 50, the 2008 8-hour ozone NAAQS is attained when the 3-year average of the annual fourth-highest daily maximum 8-hour average ambient air quality ozone concentrations is less than or equal to 0.075 ppm. 40 CFR 50.15. Ambient air quality monitoring data for the 3-year period must meet a data completeness requirement. The ambient air quality monitoring data completeness requirement is met when the average percent of days with valid ambient monitoring data is greater than 90 percent, and no single year has less than 75 percent data completeness as determined in Appendix I of part 50.

Upon promulgation of a new or revised NAAQS, the Clean Air Act (CAA or Act) requires EPA to designate as nonattainment any area that is violating the NAAQS based on the three most recent years of ambient air quality data at the conclusion of the designation process. The bi-state Charlotte Area was designated nonattainment for the 2008 8-hour ozone NAAQS on April 30, 2012 (effective July 20, 2012) using 2009-2011 ambient air quality data. See 77 FR 30088 (May 21, 2012). At the time of designation, the bi-state Charlotte Area was classified as a marginal nonattainment area for the 2008 8-hour ozone NAAQS. On March 6, 2015, EPA finalized a rule entitled “Implementation of the 2008 National Ambient Air Quality Standards for Ozone: State Implementation Plan Requirements” (SIP Requirements Rule) that establishes the requirements that state, tribal, and local air quality management agencies must meet as they develop implementation plans for areas where air quality exceeds the 2008 8-hour ozone NAAQS.¹ See 80 FR 12264. This rule establishes nonattainment area attainment dates based on Table 1 of section 181(a) of the CAA, including an attainment date three years after the July 20, 2012, effective date, for areas classified as marginal for the 2008 8-hour ozone NAAQS. Therefore, the attainment date for the bi-state Charlotte Area is July 20, 2015.

¹ The SIP Requirements Rule addresses a range of nonattainment area SIP requirements for the 2008 ozone NAAQS, including requirements pertaining to attainment demonstrations, reasonable further progress (RFP), reasonably available control technology, reasonably available control measures, major new source review, emission inventories, and the timing of SIP submissions and of compliance with emission control measures in the SIP. The rule also revokes the 1997 ozone NAAQS and establishes anti-backsliding requirements.

Based on the nonattainment designation, South Carolina was required to develop a SIP revision addressing certain CAA requirements for the Area. Specifically, pursuant to CAA section 182(a)(3)(B) and section 182(a)(1), South Carolina was required to submit a SIP revision addressing the emissions statements and emissions inventory requirements, respectively.

Ground level ozone is not emitted directly into the air, but is created by chemical reactions between oxides of nitrogen (NOX) and volatile organic compounds (VOC) in the presence of sunlight. Emissions from industrial facilities and electric utilities, motor vehicle exhaust, gasoline vapors, and chemical solvents are some of the major sources of NOX and VOC. Section 182(a)(3)(B) of the CAA requires each state with ozone nonattainment areas to submit a SIP revision requiring annual emissions statements to be submitted to the state by the owner or operator of each NOX or VOC stationary source ² located within a nonattainment area showing the actual emissions of NOX and VOC from that source. The first statement is due three years from the area's nonattainment designation, and subsequent statements are due at least annually thereafter. Section 182(a)(1) of the CAA requires states with areas designated nonattainment for the ozone NAAQS to submit a SIP revision providing a comprehensive, accurate, and current inventory of actual emissions from all sources of the relevant pollutant or pollutants in such area. NOX and VOCs are the relevant pollutants because they are the precursors of ozone.

² A state may waive the emission statement requirement for any class or category of stationary sources which emit less than 25 tons per year of VOCs or NOX if the state meets the requirements of section 182(a)(3)(B)(ii).

On August 8, 2014, South Carolina submitted a SIP revision that, among other things, addressed emissions statements requirements related to the 2008 8-hour ozone NAAQS for its portion of the bi-state Charlotte Area. Additionally, on August 22, 2014, South Carolina submitted a SIP revision that included a base year emissions inventory for the Area. EPA is now taking action to approve the portion of the August 8, 2014 SIP revision related to emissions statements as meeting the requirements of sections 110 and 182(a)(3)(B) of the CAA and to approve the portion of the August 22, 2014 SIP revision related to the base year inventory as meeting the requirements of sections 110 and 182(a)(1) of the CAA.³ More information on EPA's analysis of South Carolina's SIP revisions provided below.

³ Regarding the emissions statements requirements, today's direct final rulemaking is only approving certain revisions to Section III, Emissions Inventory and Emission Statements, of state Regulation No. 61-62.1 into the SIP. See sections II.b. and III, below, for further detail. EPA will act on the remaining portions of South Carolina's August 8, 2014, SIP revision in a separate action.

II. Analysis of State's Submittal

a. Base Year Emission Inventory

As discussed above, section 182(a)(1) of the CAA requires states to submit a comprehensive, accurate, and current inventory of actual emissions from all sources of the relevant pollutant or pollutants in each ozone non-attainment area. The section 182(a)(1) base year inventory is defined in the SIP Requirements Rule as “a comprehensive, accurate, current inventory of actual emissions from sources of VOC and NOX emitted within the boundaries of the nonattainment area as required by CAA section 182(a)(1).” See 40 CFR 51.1100(bb). The inventory year must be selected consistent with the baseline year for the RFP plan as required by 40 CFR 51.1110(b),⁴ and the inventory must include actual ozone season day emissions as defined in 40 CFR 51.1100(cc) ⁵ and contain data elements consistent with the detail required by 40 CFR part 51, subpart A. See 40 CFR 51.1115(a), (c), (e). In addition, the point source emissions included in the inventory must be reported according to the point source emissions thresholds of the Air Emissions Reporting Requirements (AERR) in 40 CFR part 51, subpart A. 40 CFR 51.1115(d).

⁴ 40 CFR 51.1110(b) states that “at the time of designation for the 2008 ozone NAAQS the baseline emissions inventory shall be the emissions inventory for the most recent calendar year for which a complete triennial inventory is required to be submitted to EPA under the provisions of subpart A of this part. States may use an alternative baseline emissions inventory provided the state demonstrates why it is appropriate to use the alternative baseline year, and provided that the year selected is between the years 2008 to 2012.”

⁵ “Ozone season day emissions” is defined as “an average day's emissions for a typical ozone season work weekday. The state shall select, subject to EPA approval, the particular month(s) in the ozone season and the day(s) in the work week to be represented, considering the conditions assumed in the development of RFP plans and/or emissions budgets for transportation conformity.” 40 CFR 51.1100(cc).

South Carolina selected 2011 as the base year for the emissions inventory which is the year corresponding with the first triennial inventory under 40 CFR part 51, subpart A. This base year is one of the three years of ambient data used to designate the Area as a nonattainment area and therefore represents emissions associated with nonattainment conditions. The emissions inventory is based on data developed and submitted by SC DHEC to EPA's 2011 National Emissions Inventory (NEI), and it contains data elements consistent with the detail required by 40 CFR part 51, subpart A.⁶

⁶ Data downloaded from the EPA EIS from the 2011 NEI was subjected to quality assurance procedures described under quality assurance details under 2011 NEI Version 1 Documentation located at http://www.epa.gov/ttn/chief/net/2011inventory.html#inventorydoc. The quality assurance and quality control procedures and measures associated with this data are outlined in the State's EPA-approved Emission Inventory Quality Assurance Project Plan.

South Carolina's emissions inventory for its portion of the Area provides 2011 typical average summer day emissions data for NOX and VOCs for the following general source categories: stationary point, area, non-road mobile, on-road mobile, and events.⁷ A detailed discussion of the inventory development is located in Appendix A of the South Carolina submittal which is provided in the docket for this action. The table below provides a summary of the emissions inventory.

⁷ South Carolina included events (i.e. wildfires and prescribed fires) to account for actual event source emissions.

Table 1—2011 Emissions for the South Carolina, York County Portion of the bi-state Charlotte Area
[Tons per summer day]
County | Point: NOX | Point: VOC | Area: NOX | Area: VOC | Non-road mobile: NOX | Non-road mobile: VOC | On-road mobile: NOX | On-road mobile: VOC | Events: NOX | Events: VOC
York County * | 4.71 | 4.02 | 0.93 | 6.93 | 2.63 | 1.78 | 11.43 | 5.30 | 0.04 | 0.42
* Only a portion of York County is located in the nonattainment area.

The emissions reported for York County reflect the emissions for only the nonattainment portion of the county. The inventory contains point source emissions data for facilities located within the South Carolina portion of the Area based on Geographic Information Systems (GIS) mapping. For the remaining emissions categories, emissions from the South Carolina portion of the bi-state Charlotte Area were determined based on the population of the portion of York County that is included in the Area. More detail on the emissions inventory for individual sources categories is provided below and in Appendix A of the State's August 22, 2014 submittal.

Point sources are large, stationary, identifiable sources of emissions that release pollutants into the atmosphere. The point source emissions inventory for South Carolina's portion of the bi-state Charlotte Area was developed from facility-specific emissions data. A detailed account of the point sources can be found in Appendix A of the August 22, 2014, submittal, which is located in the docket for today's action. The point source emissions data meets the point source emissions thresholds of 40 CFR part 51, subpart A.

Area sources are small emission stationary sources which, due to their large number, collectively have significant emissions (e.g., dry cleaners, service stations). Emissions for these sources were estimated by multiplying an emission factor by such indicators of collective emissions activity as production, number of employees, or population. These emissions were estimated at the county level. South Carolina developed its inventory according to the current EPA emissions inventory guidance for area sources.⁸ A detailed account of the area sources can be found in Appendix A of the August 22, 2014, submittal.

⁸ This guidance includes: Procedures for the Preparation of Emission Inventories of Carbon Monoxide and Precursors of Ozone, Vol. 1, EPA-450/4-91-016 (May 1991) and Emissions Inventory Improvement Program (EIIP) Technical Report, Vol. 3, Area Sources (Revised January 2001, updated April 2001).

On-road mobile sources include vehicles used on roads for transportation of passengers or freight. South Carolina developed its on-road emissions inventory using EPA's Motor Vehicle Emissions Simulator (MOVES) model for each ozone nonattainment county.⁹ County level on-road modeling was conducted using county-specific vehicle population and other local data. South Carolina developed its inventory according to the current EPA emissions inventory guidance for on-road mobile sources.¹⁰ A detailed account of the on-road sources can be found in Appendix A of the August 22, 2014, submittal.

⁹ South Carolina used MOVES version 2010b because this was the latest version available at the time that the State submitted its SIP revision.

¹⁰ This guidance includes: Emissions Inventory Guidance for Implementation of Ozone and Particulate Matter National Ambient Air Quality Standards (NAAQS) and Regional Haze Regulations, EPA-454/R-05-001 (August 2005, updated November 2005); Policy Guidance on the Use of MOVES2010 for State Implementation Plan Development, Transportation Conformity, and Other Purposes, EPA-420-B-09-046 (December 2009); and Technical Guidance on the Use of MOVES2010 for Emission Inventory Preparation in State Implementation Plans and Transportation Conformity, EPA-420-B-10-023 (April 2010).

Non-road mobile sources include vehicles, engines, and equipment used for construction, agriculture, recreation, and other purposes that do not use roadways (e.g., lawn mowers, construction equipment, railroad locomotives, and aircraft). South Carolina calculated emissions for most of the non-road mobile sources using EPA's NONROAD2008a model ¹¹ and developed its non-road mobile source inventory according to the current EPA emissions inventory guidance for non-road mobile sources.¹² The railroad locomotive emissions are calculated with fuel use data, track miles and emission factors. A detailed account of the non-road mobile sources can be found in Appendix A of the August 22, 2014, submittal.

¹¹ For consistency with the NEI, South Carolina included emissions data aircraft (where they are reported to occur at the locations of the airports where they are generated) with the point source data in the base year inventory. See Appendix A and Appendix A of the State's SIP revision for a detailed discussion of the methodology used to calculate aircraft and locomotive emissions. No rail yards are located in York County, South Carolina.

¹² This guidance includes: Procedures for Emission Inventory Preparation, Volume IV: Mobile Sources, EPA-450/4-81-026d (July 1991).

SC DEHC included 2011 actual emissions from event sources in its emissions inventory. Events sources in 2011 included wildfires and prescribed fires. Wildfires are unplanned, unwanted wild land fires including unauthorized human-caused fires, escaped prescribed fire projects, or other inadvertent fire situations where the objective is to put the fire out. Prescribed fires are any fires ignited by management actions to meet specific objectives related to the reduction of the biomass potentially available for wildfires. South Carolina calculated actual event source emissions using the 2011 NEI version 1 dataset developed by EPA. A detailed account of the event sources can be found in Appendix A of the August 22, 2014 submittal.

For the reasons discussed above, EPA has determined that South Carolina's emissions inventory meets the requirements under CAA section 182(a)(1) and the SIP Requirements Rule for the 2008 8-hour ozone NAAQS.

b. Emissions Statements

Pursuant to section 182(a)(3)(B), states with ozone nonattainment areas must require annual emissions statements from NOX and VOC stationary sources within those nonattainment areas. This requirement applies to all ozone nonattainment areas regardless of classification (e.g., Marginal, Moderate).

On August 8, 2014, South Carolina submitted a SIP revision to amend portions of Regulation No. 61-62.1, Definitions and General Requirements, as currently incorporated into the SIP, to reflect recent changes to the rule.¹³ The changes to Regulation No. 61-62.1 that address emission statement requirements are the revision to the Section III title,¹⁴ the addition of a second paragraph to Section III.A.,¹⁵ and the addition of Section III.C.¹⁶ EPA has determined that these three specific changes to Section III of Regulation No. 61-62.1, identified in the August 8, 2014 SIP submission, meet the requirements of section 182(a)(3)(B) for the 2008 8-hour ozone NAAQS and is approving those changes into the SIP.

¹³ EPA initially approved this state regulation into South Carolina's SIP in 2006. See 71 FR 70880 (December 7, 2006).

¹⁴ The revised title of Section III is “Emissions Inventory and Emissions Statements.”

¹⁵ Paragraph two reads: “An emissions statement is a less detailed statement which focuses on emissions estimates for pollutants associated with a nonattainment designation.”

¹⁶ Section III.C. of the revised regulation states: “1. Sources in areas designated nonattainment for an ozone National Ambient Air Quality Standard (NAAQS) must submit to the Department by March 31 for the previous calendar year an emissions statement which includes emissions estimates for both VOCs and nitrogen oxides (NOX) beginning with the effective date of this regulation. 2. The statement must contain a certification that the information contained in the statement is accurate to the best knowledge of the individual certifying the statement. 3. All applicable information must be recorded in the current format for reporting emissions data provided by the Department. 4. Copies of all records and reports relating to emissions statements as required in this section must be retained by the owner or operator at the source for a minimum of five (5) years.” On May 18, 2015, South Carolina submitted an email to EPA clarifying that the State used the term “estimate” in Section III.C.1 to “make a distinction between a more detailed emissions inventory, which is also required, and the more general emission statement document” and clarifying that the emission statement is a “certified document submitted to the State, by the owner or operator of each stationary source in a nonattainment area, that reports actual prior year VOC and NOX emissions from the respective nonattainment area stationary sources.” This email is available in the docket for today's action. SC DHEC's Web site contains additional information regarding the State's emissions statements requirements. See http://www.scdhec.gov/Environment/AirQuality/ComplianceandReporting/EmissionsInventory/OzoneNonattainmentAreaReportingRequirements/.

III. Incorporation by Reference

In this rule, EPA is finalizing regulatory text that includes incorporation by reference. In accordance with the requirements of 1 CFR 51.5, EPA is incorporating the following changes to Regulation No. 61-62.1, titled “Definitions and General Requirements”: modification of the title of Section III, addition of a second paragraph to Section III.A defining an “emissions statement,” and addition of Section III.C titled “Emissions Statement Requirements” which were state effective on June 27, 2014. EPA has made, and will continue to make, documents generally available electronically through www.regulations.gov and/or in hard copy at the appropriate EPA office (see the ADDRESSES section of this preamble for more information).

IV. Final Action

EPA is approving the portions of the SIP revisions submitted by South Carolina on August 22, 2014 and August 8, 2014, that relate to the base year emissions inventory and emissions statement requirements,¹⁷ respectively, for the State's portion of the bi-state Charlotte Area. EPA has concluded that the portions of the State's submissions that EPA is approving meet the relevant requirements of sections 110 and 182 of the CAA. EPA is publishing this rule without prior proposal because the Agency views this as a noncontroversial submittal and anticipates no adverse comments. However, in the proposed rules section of this Federal Register publication, EPA is publishing a separate document that will serve as the proposal to approve the SIP revision should adverse comments be filed. This rule will be effective August 11, 2015 without further notice unless the Agency receives adverse comments by July 13, 2015.

¹⁷ EPA is only incorporating the changes to Regulation No. 61-62.1 identified in sections II.b and III, above, into the SIP.

If EPA receives such comments, then EPA will publish a document withdrawing the final rule and informing the public that the rule will not take effect. All adverse comments received will then be addressed in a subsequent final rule based on the proposed rule. EPA will not institute a second comment period. Parties interested in commenting should do so at this time. If no such comments are received, the public is advised that this rule will be effective on August 11, 2015 and no further action will be taken on the proposed rule. Please note that if EPA receives adverse comment on an amendment, paragraph, or section of this rule and if that provision may be severed from the remainder of the rule, the Agency may adopt as final those provisions of the rule that are not the subject of an adverse comment.

V. Statutory and Executive Order Reviews

Under the CAA, the Administrator is required to approve a SIP submission that complies with the provisions of the Act and applicable federal regulations. 42 U.S.C. 7410(k); 40 CFR 52.02(a). Thus, in reviewing SIP submissions, EPA's role is to approve state choices, provided that they meet the criteria of the CAA. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this direct final rule for the South Carolina portion of the bi-state Charlotte area does not have Tribal implications as specified by Executive Order 13175 (65 FR 67249, November 9, 2000), because it does not have substantial direct effects on an Indian Tribe. The Catawba Indian Nation Reservation is located within the South Carolina portion of the bi-state Charlotte Area. Pursuant to the Catawba Indian Claims Settlement Act, S.C. Code Ann. 27-16-120, “all state and local environmental laws and regulations apply to the [Catawba Indian Nation] and Reservation and are fully enforceable by all relevant state and local agencies and authorities.” EPA notes that today's action will not impose substantial direct costs on Tribal governments or preempt Tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 11, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Incorporation by reference, Intergovernmental relations, Nitrogen dioxide, Ozone, Reporting and recordkeeping requirements, Volatile organic compounds.

Dated: May 28, 2015.
Heather McTeer Toney,
Regional Administrator, Region 4.

Therefore, 40 CFR part 52 is amended as follows:

PART 52—APPROVAL AND PROMULGATION OF IMPLEMENTATION PLANS

1. The authority citation for part 52 continues to read as follows:

Authority: 42 U.S.C. 7401 et seq.

Subpart PP—South Carolina

2. In § 52.2120:

a. Paragraph (c) is amended by revising the entry for “Section III” under “Regulation No. 62.1”; and

b. Paragraph (e) is amended by adding an entry for “2011 Base Year Emissions Inventory for the South Carolina portion of the bi-state Charlotte 2008 8-Hour Ozone Nonattainment Area” at the end of the table.

The revisions read as follows:

§ 52.2120 Identification of plan.

* * * * *

(c) * * *

Air Pollution Control Regulations for South Carolina
State citation | Title/Subject | State effective date | EPA Approval date | Federal Register notice
* * * * * * *
Section III | Emission Inventory and Emissions Statement | 6/27/2014 | 6/12/2015 | [Insert Federal Register citation]
* * * * * * *

* * * * *

(e) * * *

EPA-Approved South Carolina Non-Regulatory Provisions
Provision | State effective date | EPA Approval date | Explanation
* * * * * * *
2011 Base Year Emissions Inventory for the South Carolina portion of the bi-state Charlotte 2008 8-Hour Ozone Nonattainment Area | 8/22/2014 | 6/12/2015 , [Insert Federal Register citation]

[FR Doc. 2015-14338 Filed 6-11-15; 8:45 am]

BILLING CODE 6560-50-P